DEPARTMENT OF THE TREASURY

Submission for OMB Review; Comment Request

June 18, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before July 25, 2002, to be assured of consideration.

Customs Service

OMB Number: 1515-0232.

Form Number: None.

Type of Review: Extension.

Title: Passenger and Crew Manifest for Passenger Flights.

Description: This collection is to comply with a new section of the Customs Regulations 122.49a which requires transmission of manifest information to Customs for passenger flights.

Respondents: Business or other for-profit.

Estimated Number of Respondents: 200.

Estimated Burden Hours Per Respondent: 10 seconds.

Frequency of Response: On occasion.

Estimated Total Reporting Burden: 2,380 hours.

Clearance Officer: Tracey Denning, U.S. Customs Service, Information Services Branch, Ronald Reagan Building, 1300 Pennsylvania Avenue, NW., Room 3.2.C, Washington, DC 20229, (202) 927-1429.

OMB Reviewer: Joseph F. Lackey, Jr., Office of Management and Budget, Room 10235, New Executive Office Building, Washington, DC 20503, (202) 395-7316.

Mary A. Able,
Departmental Reports Management Officer.

[FR Doc. 02-15922 Filed 6-24-02; 8:45 am]

BILLING CODE 4820-02-P